DEPARTMENT OF COMMERCE

National Oceanic and Atmospheric Administration

50 CFR Part 679

[Docket No. 00424110-0110-01; I.D. 040600A]

RIN 0648-AO01

Fisheries of the Exclusive Economic Zone Off Alaska; License Limitation Program

AGENCY: National Marine Fisheries Service (NMFS), National Oceanic and Atmospheric Administration (NOAA), Commerce.

ACTION: Final rule.

SUMMARY: NMFS issues a final rule to amend the regulations implementing the License Limitation Program (LLP) to include provisions inadvertently omitted that would have made area endorsements and area/species endorsements specified on a license non-severable from the license and that would have made a groundfish license and a crab species license issued based on the legal landings of the same vessel and initially issued to the same qualified person non-severable from each other. Thus, the endorsements in the first case must be transferred with the license and in the second case both licenses must be transferred together. This regulatory amendment is necessary to include in the regulations non-severability provisions proposed by the North Pacific Fishery Management Council (Council) and NMFS in the original proposed rule to implement the LLP. This action is necessary to promote the objectives of the Federal fishery management plans for the affected fisheries by further preventing increased harvesting capacity.

DATES: Effective May 11, 2000.

FOR FURTHER INFORMATION CONTACT: James Hale, 907-586-7228.

SUPPLEMENTARY INFORMATION: NMFS manages the U.S. groundfish fisheries of the exclusive economic zone off Alaska pursuant to the Fishery Management Plan (FMP) for Groundfish of the Gulf of Alaska and the FMP for the Groundfish Fishery of the Bering Sea and Aleutian Islands Area. The commercial king crab and Tanner crab fisheries in the Bering Sea and Aleutian Islands Area are managed by the State of Alaska with Federal oversight, pursuant to the FMP for those fisheries. The Council prepared the FMPs pursuant to the Magnuson-Stevens Fishery Conservation and Management Act (Magnuson-Stevens Act), 16 U.S.C. 1801, et seq. Federal regulations implementing the FMPs appear at 50 CFR part 679. General regulations at 50 CFR part 600 also apply.

The proposed rule to implement Amendment 39 to the FMP for the Groundfish Fishery of the Bering Sea and Aleutian Islands Area, Amendment 41 to the FMP for Groundfish of the Gulf of Alaska, and Amendment 5 to the FMP for the Commercial King and Tanner Crab Fisheries in the Bering Sea/Aleutian Islands (62 FR 43866, August 15, 1997) contained provisions which would have made (1) area endorsements or area/species endorsements specified on a license non-severable from the license and (2) a groundfish license and a crab license issued based on the legal landings of the same vessel and initially issued to the same qualified person non-severable. No comments were received on these provisions. These provisions were intended to prevent increased capacity in the groundfish and crab fisheries managed under the FMPs.

In the final rule implementing the LLP, the application provisions (§ 679.4(i)(6)) and the transfer provisions (§ 679.4(i)(7)), including the non-severability provisions, were removed and the appropriate paragraphs reserved to allow for further refinement of the application and transfer processes (63 FR 52642, October 1, 1998). The final rule gave notice that a proposed rulemaking regarding those processes was under development.

Subsequently, NMFS initiated a proposed rulemaking to implement the application and transfer provisions (64 FR 19113, April 19, 1999). On August 6, 1999, NMFS issued a final rule implementing the application and transfer processes (64 FR 42826). While NMFS intended that the regulatory text include the non-severability provisions, that language was inadvertently omitted.

This final rule amends the LLP regulations by restoring the omitted non-severability provisions without change from those published in the original proposed rule (62 FR 43866, August 15, 1997) and approved by NMFS with the approval of Amendments 39, 41, and 5.

Classification

Pursuant to 5 U.S.C. 553(b)(B), a rule may be issued without prior notice and opportunity for public comment if providing such notice and comment period would be impractical, unnecessary, or contrary to the public interest. Additionally, a rule may be made effective prior to 30 days after its issuance if good cause is found and provided by the agency in the rule,pursuant to 5 U.S.C. 553(d)(3). This final rule implements the original intent of the Council and NMFS concerning severability of LLP licenses. The public was provided with prior notice and an opportunity to comment on these and other proposed regulations implementing the LLP by the proposed rule published at 62 FR 43866 (August 15, 1997). A delay in implementation of this action would unnecessarily encumber persons conducting business under the LLP transfer provisions. For these reasons, the Assistant Administrator, NMFS, finds good cause to make this rule effective immediately upon filing for public inspection with the Office of the Federal Register.

In connection with the proposed rule published at 62 FR 43866 (August 15, 1997), to implement the LLP, the Assistant General Counsel for Legislation and Regulation, Department of Commerce, certified to the Chief Counsel for Advocacy of the Small Business Administration that the regulations implementing the LLP would not have a significant adverse economic impact on a substantial number of small entities. The regulations implemented by this action consist of the transfer provisions in that proposed rule and accordingly are covered by that certification.

This rule has been determined to be not significant for purposes of E.O. 12866.

List of Subjects in 50 CFR Part 679

Alaska, Fisheries, Reporting and recordkeeping requirements.

Dated: May 10, 2000.
Penelope D. Dalton,
Assistant Administrator for Fisheries, National Marine Fisheries Service.

For reasons set out in the preamble, 50 CFR part 679 is amended to read as follows:

PART 679—FISHERIES OF THE EXCLUSIVE ECONOMIC ZONE OFF ALASKA

1. The authority citation for part 679 continues to read as follows:

Authority: 16 U.S.C. 773 et seq., 1801 et seq., and 3631 et seq.

2. In § 679.4, paragraph (k)(7)(viii) is added to read as follows:

§ 679.4 Permits.

* * * * *

(k) * * *

(7) * * *

(viii) Severability of licenses. (A) Area endorsements or area/species endorsements specified on a license are not severable from the license and must be transferred together.

(B) A groundfish license and a crab species license issued based on the legal landings of the same vessel and initially issued to the same qualified person are not severable and must be transferred together.

* * * * *

[FR Doc. 00-12276 Filed 5-11-00; 3:16 pm]

BILLING CODE 3510-22-F